DEPARTMENT OF AGRICULTURE

Grain Inspection, Packers and Stockyards Administration

[04-01-C]

Opportunity To Comment on the Applicants for the Amarillo (TX) and Louisiana Areas

AGENCY: Grain Inspection, Packers and Stockyards Administration, USDA.

ACTION: Notice.

SUMMARY: Grain Inspection, Packers and Stockyards Administration (GIPSA) requests comments on the applicants for designation to provide official services in the geographic areas assigned to Amarillo Grain Exchange, Inc. (Amarillo) and Louisiana Department of Agriculture and Forestry (Louisiana).

DATES: Comments must be postmarked, or electronically dated by July 1, 2004.

ADDRESSES: We invite you to submit comments on this notice. You may submit comments by any of the following methods:

• Hand Delivery or Courier: Deliver to Janet M. Hart, Chief, Review Branch, Compliance Division, GIPSA, USDA, Room 1647-S, 1400 Independence Avenue, SW., Washington, DC 20250.

• Fax: Send by facsimile transmission to (202) 690-2755, attention: Janet M. Hart.

• E-mail: Send comments via electronic mail to Janet.M.Hart@usda.gov.

• Mail: Send hardcopy to Janet M. Hart, Chief, Review Branch, Compliance Division, GIPSA, USDA, STOP 3604, 1400 Independence Avenue, SW., Washington, DC 20250-3604.

Read Comments: All comments will be available for public inspection at the office above during regular business hours (7 CFR 1.27(b)).

FOR FURTHER INFORMATION CONTACT: Janet M. Hart at 202-720-8525, e-mail Janet.M.Hart@usda.gov.

SUPPLEMENTARY INFORMATION: This Action has been reviewed and determined not to be a rule or regulation as defined in Executive Order 12866 and Departmental Regulation 1512-1; therefore, the Executive Order and Departmental Regulation do not apply to this action.

In the March 1, 2004, Federal Register (69 FR 9573), GIPSA asked persons interested in providing official services in the Amarillo and Louisiana areas to submit an application for designation. There were two applicants for the Amarillo area: Amarillo and Enid Grain Inspection Company, Inc. (Enid). Amarillo applied for designation to provide official services in the entire area currently assigned to them, except for Beckham, Ellis, Harper, and Roger Mills Counties in Oklahoma. Enid, a designated official agency operating in Oklahoma, applied for designation to provide official services in Beckham, Ellis, Harper, and Roger Mills Counties in Oklahoma.

There were two applications for the Louisiana area: Louisiana Department of Agriculture and Forestry (Louisiana) and BSI Inspectorate Services, Inc. (BSI). Louisiana applied for designation to provide official services in the entire area currently assigned to them. BSI, an unofficial grain inspection agency, applied for the entire state of Louisiana, except those export port locations served by GIPSA.

GIPSA is publishing this notice to provide interested persons the opportunity to present comments concerning the applicants. Commenters are encouraged to submit reasons and pertinent data for support or objection to the designation of the applicants. All comments must be submitted to the Compliance Division at the above address. Comments and other available information will be considered in making a final decision. GIPSA will publish notice of the final decision in the Federal Register, and GIPSA will send the applicants written notification of the decision.

Authority: Pub. L. 94-582, 90 Stat. 2867, as amended (7 U.S.C. 71 et seq.).

Donna Reifschneider,
Administrator, Grain Inspection, Packers and Stockyards Administration.

[FR Doc. 04-12262 Filed 5-28-04; 8:45 am]

BILLING CODE 3410-EN-P